DEPARTMENT OF COMMERCE

International Trade Administration

[A-570-900]

Diamond Sawblades and Parts Thereof From the People's Republic of China: Final Results of Antidumping Duty Changed Circumstances Review

AGENCY: Import Administration, International Trade Administration, Department of Commerce.

SUMMARY: On June 19, 2013, the Department of Commerce (the Department) published its preliminary results of a changed circumstances review of the antidumping duty order on diamond sawblades and parts thereof from the People's Republic of China. The Department preliminarily determined that Husqvarna (Hebei) Co., Ltd. is the successor-in-interest to Hebei Husqvarna Jikai Diamond Tools Co., Ltd.¹ We invited parties to comment. No parties submitted comments, and for these final results we continue to find that Husqvarna (Hebei) Co., Ltd. is the successor-in-interest to Hebei Husqvarna Jikai Diamond Tools Co., Ltd.

¹ See Diamond Sawblades and Parts Thereof From the People's Republic of China: Preliminary Results of Antidumping Duty Changed Circumstances Review, 78 FR 36744 (June 19, 2013) (Preliminary Results).

DATES: Effective Date: August 8, 2013.

FOR FURTHER INFORMATION CONTACT: Yang Jin Chun AD/CVD Operations, Office 1, Import Administration, International Trade Administration, U.S. Department of Commerce, 14th Street and Constitution Avenue NW., Washington, DC 20230; telephone: (202) 482-5760.

SUPPLEMENTARY INFORMATION: On October 1, 2012, Husqvarna (Hebei) Co., Ltd. requested that the Department conduct a changed circumstances review to confirm that it is the successor-in-interest to Hebei Husqvarna Jikai Diamond Tools Co., Ltd. for purposes of determining antidumping duty cash deposits and liabilities. On June 19, 2013, the Department preliminarily determined that Husqvarna (Hebei) Co., Ltd. is the successor-in-interest to Hebei Husqvarna Jikai Diamond Tools Co., Ltd.² In the Preliminary Results, we provided all interested parties with an opportunity to comment or request a public hearing regarding this finding. We received a hearing request from Husqvarna (Hebei) Co., Ltd. but, because we received no comments from interested parties within the time period set forth in the Preliminary Results, we did not hold a hearing.³

² See Preliminary Results.

³ See the Memorandum to the File entitled “Diamond Sawblades and Parts Thereof from the People's Republic of China: Telephone Conversation with Husqvarna (Hebei) Co., Ltd.'s Counsel” dated July 11, 2013.

Scope of the Order

The products covered by the order are all finished circular sawblades, whether slotted or not, with a working part that is comprised of a diamond segment or segments, and parts thereof, regardless of specification or size, except as specifically excluded below. Within the scope of the order are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of the order. Diamond sawblades and/or sawblade cores with a thickness of less than 0.025 inches, or with a thickness greater than 1.1 inches, are excluded from the scope of the order. Circular steel plates that have a cutting edge of non-diamond material, such as external teeth that protrude from the outer diameter of the plate, whether or not finished, are excluded from the scope of the order. Diamond sawblade cores with a Rockwell C hardness of less than 25 are excluded from the scope of the order. Diamond sawblades and/or diamond segment(s) with diamonds that predominantly have a mesh size number greater than 240 (such as 250 or 260) are excluded from the scope of the order.

Merchandise subject to the order is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. On October 11, 2011, the Department included the 6804.21.00.00 HTSUS classification number to the customs case reference file, pursuant to a request by U.S. Customs and Border Protection (CBP).⁴

⁴ See Diamond Sawblades and Parts Thereof From the Republic of Korea: Preliminary Results of Antidumping Duty Administrative Review, 76 FR 76128 (December 6, 2011).

The tariff classification is provided for convenience and customs purposes; however, the written description of the scope of the order is dispositive.

Final Results of Changed Circumstances Review

Because no parties have submitted comments opposing the Department's Preliminary Results, and because there is no other information or evidence on the record that calls into question the Preliminary Results, the Department determines that Husqvarna (Hebei) Co., Ltd. is the successor-in-interest to Hebei Husqvarna Jikai Diamond Tools Co., Ltd. for the purpose of determining antidumping duty liability.

Instructions to U.S. Customs and Border Protection

As a result of this determination, we find that Husqvarna (Hebei) Co., Ltd. should receive the cash deposit rate previously assigned to Hebei Husqvarna Jikai Diamond Tools Co., Ltd. in the most recently completed review of the antidumping duty order on diamond sawblades and parts thereof from the People's Republic of China. Consequently, the Department will instruct CBP to collect estimated antidumping duties for all shipments of subject merchandise exported by Husqvarna (Hebei) Co., Ltd. and entered, or withdrawn from warehouse, for consumption on or after the publication date of this notice in the Federal Register at the current cash deposit rate for Hebei Husqvarna Jikai Diamond Tools Co., Ltd., which is 0.00 percent.⁵ This cash deposit requirement shall remain in effect until further notice.

⁵ See Diamond Sawblades and Parts Thereof from the People's Republic of China: Amended Final Results of Antidumping Duty Administrative Review; 2010-2011, 78 FR 42930 (July 18, 2013), in which we refer to this company as Hebei Husqvarna-Jikai Diamond Tools Co., Ltd.

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

We are issuing and publishing this notice in accordance with sections 751(b)(1) and 777(i)(1) of the Tariff Act of 1930, as amended, and 19 CFR 351.216 and 351.221(c)(3).

Dated: August 2, 2013.
Paul Piquado,
Assistant Secretary for Import Administration.

[FR Doc. 2013-19237 Filed 8-7-13; 8:45 am]

BILLING CODE 3510-DS-P